DEPARTMENT OF HOUSING AND URBAN DEVELOPMENT

[Docket No. FR-4889-N-07]

Change of Effective Date of 2004 Amendatory Notice for Designation of Difficult Development Areas Under Section 42 of the Internal Revenue Code of 1986

AGENCY: Office of the Assistant Secretary for Policy Development and Research, HUD.

ACTION: Notice.

SUMMARY: This notice changes the extended effective date language applicable to 2003 Difficult Development Areas that were not so designated in 2004 in HUD's November 2, 2004, notice to include the date of December 17, 2004, to allow its applicability to projects affected by a misinterpretation of the November 2, 2004, notice on the part of a Low-Income Housing Tax Credit-allocating agency.

FOR FURTHER INFORMATION CONTACT: With questions related narrowly to the issue of the effective dates in this notice, Kurt G. Usowski, Associate Deputy Assistant Secretary for Economic Affairs, Office of Policy Development and Research, 451 Seventh Street, SW., Washington, DC 20410-6000, telephone (202) 708-2770, or e-mail Kurt_G._Usowski@hud.gov. A text telephone is available for persons with hearing or speech impairments at (202) 708-9300. (These are not toll-free telephone numbers.)

Copies Available Electronically: This notice is available electronically on the Internet (World Wide Web) at http://www.huduser.org/datasets/qct.html.

SUPPLEMENTARY INFORMATION: On December 19, 2003 (68 FR 7092), HUD published in the Federal Register the notice designating Difficult Development Areas (DDAs) and Qualified Census Tracts (QCTs) for calendar year 2004 (the 2004 notice). The 2004 notice provided that the lists of Difficult Development Areas are effective if the credits are allocated after December 31, 2003; and, in the case of a building described in section 42(h)(4)(B) of the Internal Revenue Code (Code), the lists are effective if the bonds are issued and the building is placed in service after December 31, 2003.

HUD typically issues a notice in the Federal Register in the last quarter of a calendar year designating Difficult Development Areas for the forthcoming calendar year. HUD attempts to publish the designation notice early enough to allow low-income housing tax credit (LIHTC) allocating agencies sufficient time to ensure applicant projects in DDAs and QCTs. HUD did not publish the 2004 notice until December 19, 2003, which did not provide adequate time before the effective date for allocating agencies or applicants for tax credits or tax-exempt bond financing to take actions to meet the conditions necessary to capture the benefits of the 2003 DDA designations before they expired.

Therefore, on November 2, 2004 (69 FR 63551), HUD published a notice amending the 2004 notice to extend 2003 eligibility for areas that were designated as 2003 DDAs in a notice published on December 12, 2002 (67 FR 76451) (the 2003 notice) but were not so designated in the 2004 notice. The November 2, 2004, notice (the 2004 amendatory notice) established an applicant for LIHTCs must submit to its credit-allocating agency a complete application filed after December 31, 2002, and before December 17, 2004. (Emphasis added).

It has come to HUD's attention that the phrasing of the end date of the effective time period of the extended 2003 Difficult Development Areas as “before December 17, 2004,” was misinterpreted by an LIHTC-allocating agency in establishing its due date for applications. This LIHTC-allocating agency required that applications be submitted on or before December 17, 2004. The result was that some applications for LIHTC assistance for projects to be located in the extended 2003 Difficult Development Areas came in one day past the end of the extended effective period of the 2003 Difficult Development Areas, which ended on December 16, 2004. HUD has determined that financing arrangements for these affordable housing developments, made in good faith and contingent on the applicability of the extended 2003 Difficult Development Areas, should not be jeopardized by any confusion caused by misinterpretation of its notice.

Therefore, through this notice, HUD changes the 2004 amendatory notice so that the effective date language pertaining to 2003 Difficult Development areas that were not designated 2004 Difficult Development Areas reads “on or before December 17, 2004,” everywhere such phrases appear in the 2004 amendatory notice.

Dated: April 5, 2006.
Darlene F. Williams,
Assistant Secretary for Policy Development and Research.

[FR Doc. E6-5242 Filed 4-10-06; 8:45 am]

BILLING CODE 4210-67-P